DEPARTMENT OF THE INTERIOR

Fish and Wildlife Service

Notice of Intent To Prepare a Comprehensive Conservation Plan and Environmental Assessment for McNary and Umatilla National Wildlife Refuges and Notice of Two Public Open Houses

AGENCY: Fish and Wildlife Service, Department of the Interior.

ACTION: Notice of intent and notice of two public open houses.

SUMMARY: This notice advises the public that the U.S. Fish and Wildlife Service (FWS) intends to prepare a Comprehensive Conservation Plan (CCP) and Environmental Assessment (EA) for the McNary and Umatilla National Wildlife Refuges (NWRs). The FWS is furnishing this notice in accordance with the National Wildlife Refuge System Administration Act, National Environmental Policy Act, and their implementing regulations in order to: Advise other agencies and the public of our intentions; and obtain suggestions and information on the scope of issues to include in the CCP and EA. Opportunities for public input will be announced throughout the CCP/EA planning and development process.

DATES: Please provide written comments on the scope of the CCP/EA by July 8, 2004. Two public open houses will be held. The first one is scheduled for June 16, 2004, from 6 p.m. to 9 p.m. at the McNary National Wildlife Refuge Environmental Education Center in Burbank, Washington. The second open house is scheduled for June 23, 2004, from 6 p.m. to 9 p.m. at the Riverfront Center, in Boardman, Oregon (addresses follow).

ADDRESSES: Address comments, questions, and requests for further information to: Gary Hagedorn, Project Leader, Mid-Columbia River National Wildlife Refuge Complex, PO Box 2527, Pasco, WA 99302-2527. Comments may be faxed to (509) 545-8670, or e-mailed to fw1planningcomments@fws.gov as well. Additional information concerning the NWRs is available on the following Internet site: http://midcolumbiariver.fws.gov/. Addresses for the public open house locations follow.

1. McNary National Wildlife Refuge Environmental Education Center, 311 Lake Road, Burbank, WA. Directions: From Pasco, Washington, follow State Highway 12 East over the Snake River; turn left onto Maple Street; and follow signs into McNary NWR parking lot.

2. Riverfront Center, 2 Marine Drive, Riverfront Room, Boardman, OR. Directions: From Interstate 84, take the City of Boardman Exit #165; turn north onto Main Street; cross the railroad overpass; turn right onto Marine Drive; and travel approximately one mile to the Riverfront Center on the Columbia River.

FOR FURTHER INFORMATION CONTACT: Gary Hagedorn, Project Leader at (509) 545-8588.

SUPPLEMENTARY INFORMATION: By Federal law (National Wildlife Refuge System Administration Act of 1966, as amended by the National Wildlife Refuge System Improvement Act of 1997 [Refuge Administration Act] 16 U.S.C. 668dd-668ee), all lands within the National Wildlife Refuge System will be managed in accordance with an approved CCP by 2012. A CCP guides management decisions; and identifies refuge goals and long-range objectives and strategies for achieving the purposes for which a refuge was established. During the CCP planning process, many elements will be considered including: Wildlife and habitat management, public use opportunities, and cultural resource protection. Public input into the planning process is essential. The CCP for Umatilla and McNary NWRs will describe desired conditions for the refuges and how FWS will implement management strategies. The FWS will prepare an EA in accordance with procedures for implementing the National Environmental Policy Act of 1969 (42 U.S.C. 4321-4370d).

Umatilla NWR encompasses 26,888 acres with units along the Columbia River in both Washington and Oregon. It was established in 1969 to mitigate wildlife habitat losses that occurred when the habitat was flooded after completion of the John Day Lock and Dam. A large portion of the Umatilla NWR is owned by the U.S. Army Corps of Engineers (USACE) and is managed by the FWS under Cooperative Agreement “for the conservation, maintenance, and management of wildlife resources thereof, and its habitat thereon.”

McNary NWR encompasses approximately 15,894 acres located 30 miles upstream of Umatilla NWR, near Burbank, Washington. It was established in 1953 as mitigation for wildlife habitat losses that occurred when the Columbia River corridor was flooded after completion of the McNary Dam which created Lake Wallula. Seven areas were identified in a General Plan, completed in 1953, and signed by the Secretaries of Army and Interior, and the Directors of Fish and Game for both Oregon and Washington. Each of these areas were to be managed “for the conservation, maintenance, and management of wildlife, resources thereof, and its habitat thereon.” For most of the intervening years, the FWS managed two of these seven areas as McNary NWR, though most of the underlying ownership was still held by the USACE. The State of Washington, and later the USACE, managed the other areas identified in the General Plan known as Habitat Management Units. In 1999, legislation was passed transferring ownership of the existing 3,636-acre McNary NWR from the USACE to FWS in fee title. The legislation also authorized the USACE, FWS, and Port of Walla Walla to negotiate an exchange of NWR lands with the Port. As a result, the FWS was granted management responsibility for four USACE Habitat Management Units adjacent to McNary NWR under terms of a cooperative agreement signed in January 2000. The USACE continues to own the lands while both agencies work toward permanent transfer in fee title.

Habitat types found on both refuges include shrub-steppe uplands, croplands, woody riparian areas, basalt cliffs, emergent marshes, and large open water marshes due to inundation of Lake Umatilla and Lake Wallula. Several islands were also created when these reservoirs were flooded. Both refuges provide important migratory and wintering habitat for numerous bird species especially waterfowl.

Preliminary Issues, Concerns, and Opportunities

The FWS has identified the following preliminary issues, concerns, and opportunities:

Habitat Management and Restoration: What actions shall the NWRs take to sustain and restore priority species and habitats over the next 15 years?

Public Use and Access: What kinds of recreation opportunities should be provided? Are existing access points and NWR uses adequate and appropriate?

Invasive Species Control: How do invasive species affect functioning native systems and what actions should be taken to reduce the incidence and spread of invasive species?

Dated: May 14, 2004.
David J. Wesley,
Acting Regional Director, Region 1, Portland, Oregon.

[FR Doc. 04-11632 Filed 5-21-04; 8:45 am]

BILLING CODE 4310-55-P